FEDERAL COMMUNICATIONS COMMISSION

47 CFR Parts 24 and 27

Personal Communications Services and Miscellaneous Wireless Communications Services

CFR Correction

In Title 47 of the Code of Federal Regulations, Parts 20 to 39, revised as of October 1, 2009, on page 148, § 24.232 is revised and on page 336, in § 27.50, paragraph (d) is revised to read as follows:

§ 24.232 Power and antenna height limits.

(a)(1) Base stations with an emission bandwidth of 1 MHz or less are limited to 1640 watts equivalent isotropically radiated power (EIRP) with an antenna height up to 300 meters HAAT, except as described in paragraph (b) below.

(2) Base stations with an emission bandwidth greater than 1 MHz are limited to 1640 watts/MHz equivalent isotropically radiated power (EIRP) with an antenna height up to 300 meters HAAT, except as described in paragraph (b) below.

(3) Base station antenna heights may exceed 300 meters HAAT with a corresponding reduction in power; see Tables 1 and 2 of this section.

(4) The service area boundary limit and microwave protection criteria specified in §§ 24.236 and 24.237 apply.

Table 1—Reduced Power for Base Station Antenna Heights Over 300 Meters, With Emission Bandwidth of 1 MHz or Less
HAAT in meters | Maximum EIRP watts
≤300 | 1640
≤500 | 1070
≤1000 | 490
≤1500 | 270
≤2000 | 160

Table 2—Reduced Power for Base Station Antenna Heights Over 300 Meters, With Emission Bandwidth Greater Than 1 MHz
HAAT in meters | Maximum EIRP watts/MHz
≤300 | 1640
≤500 | 1070
≤1000 | 490
≤1500 | 270
≤2000 | 160

(b)(1) Base stations that are located in counties with population densities of 100 persons or fewer per square mile, based upon the most recently available population statistics from the Bureau of the Census, with an emission bandwidth of 1 MHz or less are limited to 3280 watts equivalent isotropically radiated power (EIRP) with an antenna height up to 300 meters HAAT.

(2) Base stations that are located in counties with population densities of 100 persons or fewer per square mile, based upon the most recently available population statistics from the Bureau of the Census, with an emission bandwidth greater than 1 MHz are limited to 3280 watts/MHz equivalent isotropically radiated power (EIRP) with an antenna height up to 300 meters HAAT.

(3) Base station antenna heights may exceed 300 meters HAAT with a corresponding reduction in power; see Tables 3 and 4 of this section.

(4) The service area boundary limit and microwave protection criteria specified in §§ 24.236 and 24.237 apply.

(5) Operation under this paragraph (b) at power limits greater than permitted under paragraph (a) of this section must be coordinated in advance with all broadband PCS licensees authorized to operate on adjacent frequency blocks within 120 kilometers (75 miles) of the base station and is limited to base stations located more than 120 kilometers (75 miles) from the Canadian border and more than 75 kilometers (45 miles) from the Mexican border.

Table 3—Reduced Power for Base Station Antenna Heights Over 300 Meters, With Emission Bandwidth of 1 MHz or Less
HAAT in meters | Maximum EIRP watts
≤300 | 3280
≤500 | 2140
≤1000 | 980
≤1500 | 540
≤2000 | 320

Table 4—Reduced Power for Base Station Antenna Heights Over 300 Meters, With Emission Bandwidth Greater Than 1 MHz
HAAT in meters | Maximum EIRP watts/MHz
≤300 | 3280
≤500 | 2140
≤1000 | 980
≤1500 | 540
≤2000 | 320

(c) Mobile and portable stations are limited to 2 watts EIRP and the equipment must employ a means for limiting power to the minimum necessary for successful communications.

(d) Power measurements for transmissions by stations authorized under this section may be made either in accordance with a Commission-approved average power technique or in compliance with paragraph (e) of this section. In both instances, equipment employed must be authorized in accordance with the provisions of § 24.51. In measuring transmissions in this band using an average power technique, the peak-to-average ratio (PAR) of the transmission may not exceed 13 dB.

(e) Peak transmit power must be measured over any interval of continuous transmission using instrumentation calibrated in terms of an rms-equivalent voltage. The measurement results shall be properly adjusted for any instrument limitations, such as detector response times, limited resolution bandwidth capability when compared to the emission bandwidth, sensitivity, etc., so as to obtain a true peak measurement for the emission in question over the full bandwidth of the channel.

Note to § 24.232: Height above average terrain (HAAT) is to be calculated using the method set forth in § 24.53 of this part.

[73 FR 24183, May 2, 2008]

§ 27.50 Power and antenna height limits.

* * * * *

(d) The following power and antenna height requirements apply to stations transmitting in the 1710-1755 MHz and 2110-2155 MHz bands:

(1) The power of each fixed or base station transmitting in the 2110-2155 MHz band and located in any county with population density of 100 or fewer persons per square mile, based upon the most recently available population statistics from the Bureau of the Census, is limited to:

(A) an equivalent isotropically radiated power (EIRP) of 3280 watts when transmitting with an emission bandwidth of 1 MHz or less;

(B) an EIRP of 3280 watts/MHz when transmitting with an emission bandwidth greater than 1 MHz.

(2) The power of each fixed or base station transmitting in the 2110-2155 MHz band and situated in any geographic location other than that described in paragraph (d)(1) is limited to:

(A) an equivalent isotropically radiated power (EIRP) of 1640 watts when transmitting with an emission bandwidth of 1 MHz or less;

(B) an EIRP of 1640 watts/MHz when transmitting with an emission bandwidth greater than 1 MHz.

(3) A licensee operating a base or fixed station in the 2110-2155 MHz band utilizing a power greater than 1640 watts EIRP and greater than 1640 watts/MHz EIRP must coordinate such operations in advance with all Government and non-Government satellite entities in the 2025-2110 MHz band. Operations with power greater than 1640 watts EIRP and greater than 1640 watts/MHz EIRP must be coordinated in advance with the following licensees authorized to operate within 120 kilometers (75 miles) of the base or fixed station operating in this band: all Broadband Radio Service (BRS) licensees authorized under part 27 in the 2155-2160 MHz band and all advanced wireless services (AWS) licensees authorized to operate on adjacent frequency blocks in the 2110-2155 MHz band.

(4) Fixed, mobile, and portable (hand-held) stations operating in the 1710-1755 MHz band are limited to 1 watt EIRP. Fixed stations operating in this band are limited to a maximum antenna height of 10 meters above ground. Mobile and portable stations operating in this band must employ a means for limiting power to the minimum necessary for successful communications.

(5) Equipment employed must be authorized in accordance with the provisions of § 24.51. Power measurements for transmissions by stations authorized under this section may be made either in accordance with a Commission-approved average power technique or in compliance with paragraph (d)(6) of this section. In measuring transmissions in this band using an average power technique, the peak-to-average ratio (PAR) of the transmission may not exceed 13 dB.

(6) Peak transmit power must be measured over any interval of continuous transmission using instrumentation calibrated in terms of an rms-equivalent voltage. The measurement results shall be properly adjusted for any instrument limitations, such as detector response times, limited resolution bandwidth capability when compared to the emission bandwidth, sensitivity, etc., so as to obtain a true peak measurement for the emission in question over the full bandwidth of the channel.

* * * * *

[FR Doc. 2010-18233 Filed 7-22-10; 8:45 am]

BILLING CODE 1505-01-D